DEPARTMENT OF HOMELAND SECURITY

Coast Guard

33 CFR Part 166

[Docket No. USCG-2024-0893]

RIN 1625-AC95

Sabine Pass Safety Fairway Anchorages

AGENCY: Coast Guard, DHS.

ACTION: Notice of proposed rulemaking.

SUMMARY: The Coast Guard proposes to establish two new fairway anchorages adjacent to the existing safety fairway approaches to Sabine Bank and Sabine Pass, Texas. These two additional fairway anchorages would be in deeper water than the existing anchorages along the Sabine Pass fairway to accommodate vessels, primarily petroleum tankers, with deeper drafts. This rulemaking enhances the efficient transportation of energy resources and advances our national energy dominance. The establishment of these anchorages in deeper waters enhances navigation safety and the flow of commerce, contributing to economic growth and national energy security.

DATES: Comments and related material must be received by the Coast Guard on or before May 18, 2026.

ADDRESSES: You may submit comments identified by docket number USCG-2024-0893 at www.regulations.gov. See the “Public Participation and Request for Comments” portion of the SUPPLEMENTARY INFORMATION section for further instructions on submitting comments. This notice of proposed rulemaking, with its plain-language, 100-word-or-less proposed rule summary, will be available in this same docket.

FOR FURTHER INFORMATION CONTACT: For information about this document call or email Timothy Spence, Coast Guard Office of Navigation Systems; telephone 571-608-1962, email Timothy.A.Spence@uscg.mil.

SUPPLEMENTARY INFORMATION:

Table of Contents for Preamble

I. Public Participation and Request for Comments

II. Abbreviations

III. Basis and Purpose

IV. Background

V. Discussion of Proposed Rule

VI. Regulatory Analyses

A. Regulatory Planning and Review

B. Small Entities

C. Assistance for Small Entities

D. Collection of Information

E. Federalism

F. Unfunded Mandates

G. Taking of Private Property

H. Civil Justice Reform

I. Protection of Children

J. Indian Tribal Governments

K. Energy Effects

L. Technical Standards

M. Environment

I. Public Participation and Request for Comments

The Coast Guard views public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments at www.regulations.gov. To do so, go to www.regulations.gov, type USCG-2024-0893 in the search box and click “Search.” Next, look for this document in the Search Results column and click on it. Then click on the Comment option. If you cannot submit your material by using www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the www.regulations.gov Frequently Asked Questions (FAQ) web page. That FAQ page also explains how to subscribe for email alerts that will notify you when comments are posted or if a final rule is published. We review all comments received, but we will only post comments that address the topic of the proposed rule. We may choose not to post off-topic, inappropriate, or duplicate comments that we receive.

Personal information. We accept anonymous comments. Comments we post to www.regulations.gov will include any personal information you have provided. For more about privacy and submissions to the docket in response to this document, see DHS's eRulemaking System of Records notice (85 FR 14226, March 11, 2020).

Public meeting. We do not plan to hold a public meeting, but we will consider doing so if we determine from public comments that a meeting would be helpful. We would issue a separate Federal Register notice to announce the date, time, and location of such a meeting.

II. Abbreviations

CFR Code of Federal Regulations

DHS Department of Homeland Security

FR Federal Register

MTS Marine Transportation System

OMB Office of Management and Budget

§ Section

SNWW Sabine-Neches Waterway

U.S.C. United States Code

VTS Vessel Traffic Service

WGS84 World Geodetic System 1984

III. Basis and Purpose

The legal basis for this rulemaking is 46 U.S.C. Chapter 700, and specifically 46 U.S.C. 70003 and 70034. Section 70003 authorizes the Secretary to designate necessary fairways and traffic separation schemes for vessels operating in the territorial sea of the United States and in high seas approaches, outside the territorial sea, to provide safe access routes for the movement of vessel traffic proceeding to or from ports or places. Establishing the deeper fairways anchorage locations adjacent to the existing fairways would advance the Sabine Pass Fairway's purpose to provide safe access routes for the movement of vessel traffic proceeding to or from ports. Section 70034 grants the Secretary authority to issue regulations necessary to implement 46 U.S.C. Chapter 700, Subchapters I through IV, which includes Section 70001. The Secretary delegated these authorities to the U.S. Coast Guard in Department of Homeland Security (DHS) Delegation No. 00170.1, Revision No. 01.4, paragraph (II)(70).

The purpose of this rulemaking is to amend 33 CFR 166.200 to establish two new voluntary use fairway anchorages off the Texas and Louisiana coastlines. A chartlet and Geographic Information System data showing the proposed locations for the fairway anchorages are available in the docket for this rulemaking (see the Public Participation and Request for Comments portion of the preamble for directions on accessing the docket). The proposed regulations would provide charted locations for safe anchorage of vessels with drafts too deep to use existing fairway anchorages. Any vessel operator may use the fairway anchorages. The new fairway anchorages would reduce the potential for collisions, allisions, and groundings for vessels arriving, holding, or anchoring. For these reasons, the fairways anchorages would promote the efficient movement of commerce. The proposed deeper anchorage areas would also advance the goals of Executive Order 14154, Unleashing American Energy, by providing the unobstructed and safe flow of energy transportation, primarily petroleum tanker ships, to and from ports in the Sabine-Neches Waterway. Lastly, we propose revising an existing Sabine Bank fairway anchorage name to more accurately describe its location.

IV. Background

On July 22, 2011, the U.S. Army Corps of Engineers recommended deepening the Sabine-Neches Waterway (SNWW) from 40 feet to 48 feet and extending the offshore channel by 11.5 nautical miles to reach deeper water. The deepening project began in 2020 and is on-going at the time of publication of this proposed rule. For more information about how the joint U.S. Army Corps of Engineers and Sabine-Neches Navigation District deepening project will increase energy exports and deeper-draft vessel traffic in the SNWW, see the website https://navigationdistrict.org/deepening-project.

There are four existing fairway anchorages adjacent to the Sabine Bank and Sabine Pass fairways described in 33 CFR 166.200(d)(13)(i)-(iv). A fairway anchorage is a specific area, identified on a nautical chart, where vessels may drop anchor and not interfere with other transiting vessels. However, vessels with drafts deeper than 40 feet are unable to use these fairway anchorages because of the insufficient water depth in those fairway anchorage areas. Draft refers to the vertical distance between the waterline and the lowest part of a ship's hull or propellers or other appendages. In existing 33 CFR 166.105(b) we define Fairway anchorage as “an anchorage area contiguous to and associated with a fairway, in which fixed structures may be permitted within certain spacing limitations, as described for specific areas in Subpart B.” The Coast Guard has historically used fairway anchorages adjacent to shipping safety fairways to promote the statutory goal of promoting safe and efficient transit of vessel traffic to and from our ports. The existing fairway anchorages and their relevant shipping safety fairway are listed in section 166.200.

Currently, three fairway anchorages are available for use outside the existing channel entrance. The relocation of the channel entrance 11.5 nautical miles into deeper waters results in no fairway anchorages available outside the channel entrance. Other facilities and obstructions in the area, such as oil rigs, submerged pipelines, and shoals (bottom features dangerous to navigation), also limit the ability of deeper-draft vessels to anchor safely. Local pilots have requested Coast Guard assistance in establishing these fairway anchorages for vessels with drafts exceeding 40 feet and whose operators are unfamiliar with the area. The new proposed deeper anchorages will be outside of this safe water mark. In addition to deeper-draft vessels, some companies require a pilot when transiting the channel. Therefore, we anticipate that a majority of vessels capable of anchoring in the existing fairway anchorages would, nevertheless, use these proposed new fairway anchorages to reduce risk consistent with safety management systems.

V. Discussion of Proposed Rule

In January 2021, the Sabine Pilots Association (licensed professional mariners charged with the safe navigation of vessels on the SNWW) requested that the Coast Guard create two new fairway anchorages, adjacent to the existing safety fairway, to accommodate deep-draft vessels that are unable to use existing fairway anchorages. In response, we propose putting the fairway anchorages approximately 28 nautical miles south-southeast of Sabine Pass, TX, on the east and west sides of the exiting Sabine Bank approach fairway. We would establish the fairway anchorages in water deep enough for deeper-draft vessels. The combined surface area of the two proposed fairway anchorages would be approximately 37.1 square statute miles. Tables 1 and 2 show the proposed fairway anchorages coordinates (World Geodetic System 1984 (WGS84)). The proposed Sabine Bank Approach (East) Anchorage Area would include the area enclosed by rhumb lines joining points at:

Table 1—The Proposed Sabine Bank Approach (East) Anchorage Area
Latitude north | Longitude west
29°09′55″ | 93°38′50″
29°09′55″ | 93°37′34″
29°08′46″ | 93°37′34″
29°04′45″ | 93°33′58″
29°03′53″ | 93°35′07″
29°08′11″ | 93°38′50″

The coordinates (WGS84) for the proposed Sabine Bank Approach (West) Anchorage Area would include the area enclosed by rhumb lines joining points at:

Table 2—The Proposed Sabine Bank Approach (West) Anchorage Area
Latitude north | Longitude west
29°13′29″ | 93°42′57″
29°13′29″ | 93°41′06″
29°07′31″ | 93°41′06″
29°03′36″ | 93°37′44″
29°02′09″ | 93°39′30″
29°06′11″ | 93°42′57″

Establishing these fairway anchorages would provide unobstructed anchorage areas adjacent to existing shipping safety fairways. The fairway anchorages play a crucial role in advancing the goal of facilitating commerce by enhancing the safety, efficiency, and predictability of maritime operations. By creating defined fairway anchorages, vessels can wait for clearance or better weather conditions without blocking important routes or causing congestion. This enhances the flow of traffic and helps maintain the schedule of cargo delivery, reducing delays in the global supply chain. The time saved by reducing the need for vessels to maneuver around unsuitable anchorage areas or wait in less organized spaces directly supports faster, more predictable commerce.

If adopted, the fairway anchorages would be documented on navigational charts maintained by other agencies. The charts would be the primary way to identify the fairway anchorages' locations. There are currently no plans to place physical markers or buoys around the proposed fairway anchorages. None of the other Gulf of America fairways anchorages are marked with physical aids either, but they are usually marked on nautical charts. Additional fairway anchorages adjacent to the fairways would reduce congestion in the waterway by providing more space for vessel berths, thereby clarifying vessel maneuver protocols in the SNWW. These proposed fairway anchorages, which we propose codifying in 33 CFR 166.200(d)(13)(v) and (vi), would provide adequate anchorage areas for deep-draft vessels that are unable to use the existing, more shallow fairway anchorages. The additional designated areas to anchor would enhance safe vessel movements for arriving and departing vessels because it creates safe areas where vessels should await port entry.

Relatedly, the Coast Guard published a notice on March 1, 2023 to announce a Port Access Route Study titled “Port Access Route Study: Approaches to Galveston Bay and Sabine Pass, Texas and Calcasieu Pass, Louisiana” at 88 FR 12966. The notice and related material are in docket USCG-2023-0063 on regulations.gov. Before establishing or adjusting fairways or TSSs, the Coast Guard must conduct a Port Access Route Study, a study of potential traffic density and the need for safe access routes for vessels. Through the study process, the Coast Guard coordinated with Federal, State, Tribal, and foreign state agencies and considered the views of maritime community representatives, environmental groups, and other stakeholders. The primary purpose of the coordination was, to the extent practicable, to reconcile the need for safe access routes with other reasonable waterway uses such as anchorages, construction, operation of energy facilities, marine sanctuary operations, commercial and recreational activities, and other uses. While the PARS is not required for establishing the fairways anchorage areas, the PARS is considering the need for anchorage areas. We will post the final report to the docket USCG-2023-0063 when we issue it.

Establishing two new fairway anchorages would limit construction of fixtures and obstructions within the designated areas by way of spacing restrictions. Structures may be placed within an area designated as a fairway anchorage, but they must meet existing spacing regulations in § 166.200(c)(1) for structures within fairway anchorages. Specifically, the center of a structure must be at least 2 nautical miles from the center of any existing structure. However, if a drilling or production complex extends more than 500 yards from the center, a new structure cannot be erected closer than 2 nautical miles from the outer limit of the complex per existing § 166.200(c)(4). There are no existing structures or obstructions in the proposed fairway anchorages at the time of publication of this proposed rule. As the federal government's waterway navigation safety expert, the Coast Guard reviews all offshore construction proposals through the Navigation Safety Risk Assessment process. The assessment ensures permitting agencies are advised of potential impacts to navigational safety and recommendations to mitigate or eliminate hazards to navigation. The Coast Guard works closely with NOAA to ensure charting of structures, obstructions, and hazards to navigation.

In addition, we propose to update the name of an existing Sabine Bank Offshore fairway anchorage, as described in existing 33 CFR 166.200(d)(13)(ii). We propose to change the name from “Sabine Bank Offshore (North) Anchorage Area” to “Sabine Bank Offshore (West) Anchorage Area.” “West” is a more accurate description of its location relative to the fairway. This proposed change to the fairway anchorage area name would not have any impact on the public.

VI. Regulatory Analyses

We developed this proposed rule after considering numerous statutes and Executive orders related to rulemaking. A summary of our analyses based on these statutes or Executive orders follows.

A. Regulatory Planning and Review

Executive Orders 12866 (Regulatory Planning and Review) and 13563 (Improving Regulation and Regulatory Review) direct agencies to assess the costs and benefits of available regulatory alternatives and, if regulation is necessary, to select regulatory approaches that maximize net benefits. Executive Order 13563 emphasizes the importance of quantifying both costs and benefits, of reducing costs, of harmonizing rules, and of promoting flexibility. Executive Order 14192 (Unleashing Prosperity Through Deregulation) directs agencies to significantly reduce the private expenditures required to comply with Federal regulations and provides that “any new incremental costs associated with new regulations shall, to the extent permitted by law, be offset by the elimination of existing costs associated with at least 10 prior regulations.”

The Office of Management and Budget (OMB) has not designated this rule a “significant regulatory action” under section 3(f) of Executive Order 12866.. Accordingly, OMB has not reviewed it.

This proposed rule, if finalized as proposed, is expected to be an Executive Order 14192 deregulatory action.

Currently, there are four existing fairway anchorages that are not deep enough to be used by vessels with drafts exceeding 40 feet that will transit the SNWW southeast of Sabine Pass, TX. As a result, these vessels may drift, loiter, or anchor in random, unmarked locations. The Coast Guard is proposing to establish two new fairway anchorages in this area, adjacent to the existing safety fairway, to allow vessels with deeper drafts to anchor. The creation of the two new fairway anchorages would benefit vessel owners and operators who transit this area because it would help in the movement of vessels, promote safe anchoring, and alleviate congestion in the waterway. We do not expect this proposed rule to impose any additional costs, other than minimal regulatory costs, on vessel owners and operators who transit this waterway or on the Federal Government. Table 3 provides a summary of the impacts of this proposed rule.

Table 3—Summary of Impacts of the Proposed Rule
Category | Summary
Applicability | 33 CFR 166.200.
Affected Population | Based on the most recent Port Arthur Vessel Traffic Service (VTS) data, the annual number of affected vessels would be approximately:
| U.S.-flagged deep draft vessels: 10. Foreign-flagged deep draft vessels: 320. Total: 330 unique vessels.
| In total, from 2021-2023, approximately 990 unique deep-draft vessels with drafts greater than 40 feet and less than 48 feet, transited the SNWW. These vessels would be able to use the two new fairway anchorages with this proposed rule.
Cost Savings | Reduces fuel costs for vessels that anchor as opposed to drifting or loitering.
| U.S. cost savings: Total discounted cost savings: $1.3 million. Annualized cost savings: $180,125.
| Foreign cost savings: Total discounted cost savings: $14.8 million. Annualized cost savings: $2.1 million.
Costs | There would be minimal unquantified costs to industry or the Federal Government associated with documenting and familiarizing chart locations, as well as changing existing anchorage names. Additionally, the use of these two new fairway anchorages by the owners or operators of deep-draft vessels would be optional.
Unquantified Benefits | • Provides locations for anchorage of deep-draft vessels.¹
| • Helps transit of deep-draft vessels awaiting entry to a port or facility in the SNWW.
| • Promotes safe navigation and alleviates congestion in the waterway.²
| • Introduces order and predictability into traffic management.
| • Reduces transit time for Coast Guard members conducting boardings. Note: The Coast Guard requires vessels to be anchored during boardings.

Table 4 presents the impacts of the proposed changes to 33 CFR part 166.

¹ Charts and vessel density maps of the area depicting existing and proposed fairway anchorages are available in the docket and via links in this document.

² See the USACE report: Final Feasibility Report for Sabine-Neches Waterway Channel Improvement Project, Southeast Texas and Southwest Louisiana.

Table 4—Regulatory Changes of the Proposed Rule
Type of change | Proposed changes | Affected CFR parts | Economic impact
Update the name of an existing Sabine Bank Offshore fairway anchorage | Replacing the word “North” with “West”. Specifically, changing the name from “Sabine Bank Offshore (North) Anchorage Area” to “Sabine Bank Offshore (West) Anchorage Area” | 33 CFR 166.200(d)(13)(ii) | No impact; editorial.
Sabine Bank Approach (East and West) Anchorage Area | Designating two new fairway anchorages off the Texas and Louisiana coastline for vessels with deep drafts | 33 CFR 166.200(d)(13)(v)-(vi) | Unquantified benefit of enhancing navigational safety of deep-draft vessels that transit the SNWW.

Affected Population

For this proposed rule, we obtained the affected population of vessels that would benefit from these two new fairway anchorages from the Port Arthur VTS database and subject matter experts in the Coast Guard Office of Navigation Services. The population of vessels that transit the SNWW is comprised of U.S. and foreign-flagged vessels. Table 5 and 6 provide a breakdown of the affected U.S. and foreign population of vessels.

Approximately 94 percent of deep-draft vessels are tank vessels, such as petroleum and chemical tank ships, and gas carriers, which carry liquefied hazardous gas (LHG) and liquefied natural gas (LNG). Based on the most recent information as of April 2024, and using data over a 3-year period from 2021 to 2023, the total number of U.S. affected vessels that transit annually the SNWW on average is approximately 10, making approximately 100 trips (or 10 trips per vessel) annually.³ See Table 5.

³ Based on vessel transit data from the Port Arthur VTS database, there are no small commercial vessels, fishing vessels, or recreational vessels that transit the SNWW.

Table 5—Affected U.S.-Flagged Vessel Population by 46 CFR Subchapter
U.S.-flagged vessels calling on SNWW: 46 CFR inspection subchapter | U.S.-flagged vessels calling on SNWW: Vessels | U.S.-flagged vessels calling on SNWW: Trips
D—Tank Vessels | 11 | 94
I—Cargo and Miscellaneous Vessels | 1 | 2
O—Certain Bulk Dangerous Cargoes |  |
OD—Combination of O & D | 17 | 204
Unspecified | 2 | 2
Total U.S.-flagged deep draft vessels transiting SNWW over 3-year period | 31 | 302
Average annual U.S.-flagged deep draft vessels transiting SNWW | 10 | 100
Note: During the 3-year data period, we did not identify any other U.S.-flagged vessels from other subchapters in 46 CFR that transited the SNWW.

Using the same dataset over a 3-year period from 2021 to 2023, the total number of foreign-flagged vessels that transit the SNWW on average is approximately 320, making approximately 1,035 trips annually (see Table 6).

Table 6—Affected Foreign-Flagged Vessel Population by 46 CFR Subchapter
Foreign-flagged vessels calling on SNWW: Inspection subchapter | Foreign-flagged vessels calling on SNWW: Foreign-flagged vessels | Foreign-flagged vessels calling on SNWW: Trips
D—Tank Vessels | 295 | 829
I—Cargo and Miscellaneous Vessels | 30 | 61
O—Certain Bulk Dangerous Cargoes | 189 | 1,288
OD—Combination of O & D | 241 | 570
Unspecified | 204 | 358
Total | 959 | 3,106
Average annual foreign-flagged deep draft vessels transiting SNWW | 320 | 1,035
Note: During the 3-year data period, we did not identify any other foreign-flagged vessels from other subchapters in 46 CFR that transited the SNWW.

The use of these two proposed new fairway anchorages would be voluntary, and any vessel could anchor in these areas; however, these fairway anchorages would be intended primarily for use by deep-draft vessels. The number of U.S.-flagged vessels with drafts greater than 40 feet that call on the SNWW and would be able to use these two new fairway anchorages is an annual average of approximately 10 (see Table 7).

Table 7—Affected U.S.-Flagged Vessels by Design Draft
46 CFR inspection subchapter | Design draft range (feet) | Number of vessels
D—Tank Vessels | [40.05-47.62] | 12
I—Cargo and Miscellaneous Vessels | [41.06-42.05] | 2
OD—Combination of O & D | [40.08-46.61] | 17
Total over 3-year period |  | 31
Average Annual |  | 10

Cost Savings of the Proposed Rule

The cost savings of the proposed rule to owners and operators of U.S.-flagged vessels is based on the quantified fuel that would be saved with the new anchorage areas. We expect this proposed rule to generate cost savings from the reduction of time for U.S.-flagged deep draft vessels that call on the SNWW. Based on the information obtained from the Sabine Pilots ⁴ in the SNWW, vessel owners and operators would save approximately 30 minutes to 2 hours from maneuvering offshore while waiting to reach the safe water mark before they enter the new anchorage areas in the SNWW. There may be some occurrences during the year where vessels may wait longer outside of the safe water mark, but the estimates provided to us would be the typical waiting times without the new anchorage areas.

⁴ The Coast Guard held a videoconference with the Sabine Pilots Association on June 12, 2025.

The establishment of these anchorages would reduce vessel fuel consumption because vessels would no longer wait or drift offshore using their main engines. As a result, owners and operators of these vessels would save fuel and fuel costs by directly entering the new anchorage areas and not waiting offshore. Once in the anchorage areas, vessels would revert to using generator power as they would do normally. Of the 302 unique U.S.-flagged vessels that called on the SNWW in the past 3 years, 298 of them were Panamax-class vessels.⁵ Because Panamax vessels comprise nearly the entire population of U.S.-flagged vessels in this proposed rule, we will need to obtain the fuel type for this vessel class for the purpose of this cost savings analysis.

⁵ A Panamax vessel is a ship designed to fit within the size restrictions of the original Panama Canal locks. They are typically medium sized vessels with beams that do not exceed 106-feet.

The average fuel consumption of Panamax class vessels is between approximately 30 to 35 metric tons per day.⁶ Using data from U.S. Energy Information Administration (EIA), the cost of ULSFO is $1,029 per metric ton.⁷ Using a 24-hour day and an average of 33 metric tons of fuel used in a day, a Panamax class vessel would use approximately 1.4 metric tons of fuel an hour (33 metric tons ÷ 24 hours). Therefore, the fuel cost for a Panamax class vessel that would wait offshore without the benefit of the new anchorage areas would be approximately $1,441($1,029 × 1.4) per hour, rounded. Using a low estimate of 30 minutes of waiting time, the fuel cost for a Panamax class vessel would be approximately $721, rounded. Using a high estimate of 2 hours, the fuel cost for a Panamax class vessel would be approximately $2,884, rounded. For the purpose of this analysis, we will use an average time of 1.25 hours or 75 minutes for our cost savings calculations.

⁶ Panamax class vessels calling on the SNWW use ultra-low sulfur fuel oil (ULSFO) https://www.shipuniverse.com/big-5-breakdown-size-fuel-burn-and-carrying-capacity/.

⁷ Using year 2024 data, the cost per gallon of ultra-low sulfur fuel oil is $3.50. There is approximately 294 gallons per metric ton. Thus, the price of ULSFO per metric ton is approximately $1,029 (294 gallons × $3.50).

Approximately 10 unique U.S.-flagged vessels call on SNWW every year. Based on Port Arthur VTS data, these 10 vessels make approximately 10 trips, rounded, each to the SNWW, or 100 total trips annually. Therefore, the fuel costs and subsequent fuel cost savings would be a function of the number of trips made by U.S.-flagged vessels. For the low estimate of 30 minutes of waiting time offshore without the new anchorage areas and using approximately 100 trips annually, the total time savings would be approximately 3,000 (30 minutes per trip × 100 trips) minutes or 50 hours annually. Using fuel cost per hour that we derived previously, the total undiscounted fuel cost savings for U.S.-flagged vessels that call on the SNWW would be approximately $72,050 annually (50 hours × $1,441/hour). Similarly, for the high estimate of 2 hours and using the same number of trips, the total time savings for the U.S.-flagged vessels that call on the SNWW would be approximately 12,000 minutes (120 minutes per trip × 100 trips) or approximately 200 hours annually. The total undiscounted fuel cost savings for U.S.-flagged vessels that call on SNWW would be approximately $288,200 annually (200 hours × $1,441/hour). Because we are using the average time estimate of 75 minutes (1.25 hours), the average annual undiscounted cost savings of this proposed rule U.S.-flagged vessel owners and operators would be approximately $180,125. See table 8.

Table 8—Annual Fuel Cost Savings From Fuel for Affected U.S.-Flagged Vessels
Time saved (hour) | Trips | Time saved (hours annually) | ULSFO cost (per hour) | Total annual ULSFO Cost
(A) | (B) | (C) = (A) × (B) | (D) | (E) = (C) × (D)
0.5 (low estimate) | 100 | 50 | $1,441 | $72,050
2 (high estimate) | 100 | 200 | 1,441 | 288,200
1.25 (Average ) | 100 | 125 | 1,441 | 180,125
Note: Totals may not add due to independent rounding.

Based on our analysis, we expect this proposed rule to generate cost savings for industry, or vessel owners and operators who transit the SNWW area, or shoreside facilities that receive cargo from deeper-draft vessels that would use the two new fairway anchorages. Table 9 presents the total quantified fuel cost savings to U.S.-flagged vessel owners and operators from the adoption of these two new anchorages in the SNWW. We estimate the total present value or discounted fuel cost savings to owners and operators of U.S.-flagged vessels over a 10-year period of analysis to be between $1.3 and $1.5 million, at 7- and 3-percent discount rates, respectively. We estimate the annualized fuel cost savings to owners and operators of U.S.-flagged vessels to be about $180,125 at each discount rate. We estimate that this rule generates $157,328 in net annualized fuel cost savings to owners and operators of U.S.-flagged vessels at a 7-percent discount rate, discounted relative to year 2024, over a perpetual time horizon.

Table 9—Net Present Value of Fuel Cost Savings for Owners and Operators of U.S.-Flagged Vessels Resulting From New Anchorages in SNWW
Year | Cost savings for industry (undiscounted) | 7% Discount rate | 3% Discount rate
1 | $180,125 | $168,341 | $174,879
2 | 180,125 | 157,328 | 169,785
3 | 180,125 | 147,036 | 164,840
4 | 180,125 | 137,417 | 160,039
5 | 180,125 | 128,427 | 155,377
6 | 180,125 | 120,025 | 150,852
7 | 180,125 | 112,173 | 146,458
8 | 180,125 | 104,834 | 142,192
9 | 180,125 | 97,976 | 138,051
10 | 180,125 | 91,566 | 134,030
Total | 1,801,250 | 1,265,123 | 1,536,503
Annualized |  | 180,125 | 180,125
Note: Totals may not add due to independent rounding.

This proposed rule would also generate cost savings for owners and operators of foreign-flagged vessels. The quantified fuel cost savings stem from the reduction of time for foreign flagged deep draft vessels that call on the SNWW. Following the same methodology that we used for U.S.-flagged vessels and using the average of time saved (1.25 hours) from the adoption of these anchorages and ULSFO cost of $1,029 per metric ton. For example, a Suezmax class vessel would consume approximately 2.4 metric tons of fuel per hour (58 metric tons ÷ 24 hours). Therefore, the fuel cost for a Suezmax class vessel that would wait offshore without the benefit of the new anchorage areas would be approximately $2,470 per hour (2.4 metric tons × $1,029 ULSFO cost per metric tons). Multiplying this by the time saved of 103 hours (1.25 average hours saved × 82 trips by Suezmax vessels) would generate approximately $254,410 in quantified fuel savings to foreign-flagged Suezmax vessels that transit the SNWW. Therefore, the total annual quantified fuel cost savings (undiscounted) for all 4 classes of foreign-flagged vessels that transit the SNWW is approximately $2.1 million. See Table 10.

Table 10—Annual Fuel Cost Savings for Affected Foreign-Flagged Vessels
Vessel class | Fuel consumption per day ⁸ (metric tons) | Trips | Time saved (hours annually) | ULSFO cost (per hour) | Total annual ULSFO cost
| (A) | (B) | (C) = 1.25 hours × (B) | (D) | (E) = (C) × (D)
Aframax | 38 | 519 | 649 | $1,646 | $1,068,254
Handymax | 28 | 16 | 20 | 1,235 | 24,700
Panamax | 33 | 418 | 523 | 1,441 | 753,643
Suezmax | 58 | 82 | 103 | 2,470 | 254,410
Total |  | 1,035 | 1,295 |  | 2,101,007
Note: Totals may not add due to independent rounding.

Table 11 presents the total quantified fuel cost savings to owners and operators of foreign-flagged vessels from the adoption of these two new anchorages in the SNWW. We estimate the total present value or discounted fuel cost savings to owners and operators of foreign-flagged vessels over a 10-year period of analysis to be between $14.8 and $18.0 million, at 7- and 3-percent discount rates, respectively. We estimate the annualized fuel cost savings to owners and operators of foreign-flagged vessels to be approximately $2.1 million at each discount rate.

⁸ https://safe.menlosecurity.com/doc/docview/viewer/docN7AF4525FF665007fa9e3bae8c4687ef5ec9f143f73e6815ffea6ee8ab15119851c6c380ebd0b; https://safe.menlosecurity.com/doc/docview/viewer/docN7AF4525FF6658d501aae81d1fcb469b498b88f5609708f5a2ad14abd542f1b7b6fa1d2909569; https://mycompassair.com/part-3-vessels/; accessed 07/23/2025.

Table 11—Net Present Value of Fuel Cost Savings for Operators of Foreign Flagged Vessel Resulting From New Anchorages in SNWW
Year | Cost savings for industry (undiscounted) | 7% Discount | 3% Discount
1 | 2,101,007 | $1,963,558 | $2,039,813
2 | 2,101,007 | 1,835,101 | 1,980,401
3 | 2,101,007 | 1,715,048 | 1,922,719
4 | 2,101,007 | 1,602,848 | 1,866,718
5 | 2,101,007 | 1,497,989 | 1,812,347
6 | 2,101,007 | 1,399,990 | 1,759,560
7 | 2,101,007 | 1,308,402 | 1,708,311
8 | 2,101,007 | 1,222,805 | 1,658,554
9 | 2,101,007 | 1,142,809 | 1,610,247
10 | 2,101,007 | 1,068,045 | 1,563,347
Total | 21,010,070 | 14,756,594 | 17,922,016
Annualized |  | 2,101,007 | 2,101,007
Note: Totals may not add due to independent rounding.

We request public comments on this preliminary analysis.

Unquantified Benefits of the Proposed Rule

This proposed rule would designate two new fairway anchorages to accommodate vessels with deep drafts in the Sabine Bank and Sabine Pass fairways. The use of the two proposed new fairway anchorages by U.S.-flagged vessel owners and operators would be voluntary, and any vessel owner or operator may anchor in these new areas. The establishment of these two new fairway anchorages for vessels that transit the SNWW would provide safe access to the adjacent fairways, manage vessel activity, and help in secure anchoring and efficient movement of vessels from the fairway anchorages to the pilot boarding area. Vessels would utilize the fairway anchorages, as opposed to anchoring in unregulated areas with pipelines, or transiting in and around the highly trafficked safety fairways and energy production platforms. Access to charted fairway anchorages would enhance navigational safety by accounting for current and future growth of the marine transportation system (MTS) in this area and alleviate congestion in the SNWW, which may reduce the likelihood of a grounding, allision, or collision incident. It also preserves an efficient flow of commerce.

Additionally, this proposed rule will increase the efficient transportation of energy resources and advance our national energy dominance.

Regulatory Alternatives Considered

Alternative 1: Increase the number of the proposed fairway anchorages.

Under this alternative, the Coast Guard would establish three or more new fairway anchorages. This alternative would not impose any new regulatory costs on vessels owners and operators who transit this area. We rejected this alternative because it would not generate the optimal benefit for the marine industry. We want to designate the smallest area necessary to accomplish the objective. We do not anticipate needing the third fairway anchorage for the number of vessels transiting the area. The Sabine Pilots Association, based on their extensive knowledge of the use of and need for anchorages, determined and requested the establishment of only two new fairway anchorages in the SNWW.

Alternative 2: Reduce the size of one or both proposed fairway anchorages.

The Coast Guard considered a smaller, alternate fairway anchorage B, which would reduce the proposed anchorage areas in size and depth by approximately 25.1 percent. The Sabine Pilots Association provided this size estimate to the Coast Guard based on an increase in the scope of the anchor chain that would be needed as a result of an increase in the depth of the water. We rejected this alternative because it would provide less area for vessels to anchor and could create a marginal increase in the risk of collisions, allisions, and groundings when compared to the preferred alternative. This alternative would not impose any new regulatory costs on vessels owners and operators who transit this area. It would also not provide any additional benefits to vessel owners and operators because this anchorage area would be smaller in size and could increase congestion and the likelihood of incidents in this area, as opposed to the preferred alternative.

Alternative 3: Preferred Alternative.

With this alternative, the Coast Guard would designate two new fairway anchorages for use by vessel owners and operators in the Sabine Bank and Sabine Pass fairways. This is the preferred alternative because it would allow vessels with drafts greater than 40 feet to anchor. These vessels are currently unable to use the existing fairway anchorages because their drafts are deeper than the existing anchorages allow. This alternative provides designated locations for anchorage of deep-draft vessels, which promotes safe navigation for current and future growth of the MTS and alleviates congestion in the SNWW. This alternative would not impose any regulatory costs on vessels owners and operators who transit this area.

B. Small Entities

Under the Regulatory Flexibility Act, 5 U.S.C. 601-612, we have considered whether this proposed rule would have a significant economic impact on a substantial number of small entities. The term “small entities” comprises small businesses, not-for-profit organizations that are independently owned and operated and are not dominant in their fields, and governmental jurisdictions with populations of less than 50,000.

As this rule imposes no regulatory costs on the affected population, the Coast Guard certifies under 5 U.S.C. 605(b) that this proposed rule would not have a significant economic impact on a substantial number of small entities. If you think that your business, organization, or governmental jurisdiction qualifies as a small entity and that this proposed rule would have a significant economic impact on it, please submit a comment to the docket at the address listed in the ADDRESSES section of this preamble. In your comment, explain why you think it qualifies and how and to what degree this proposed rule would economically affect it.

C. Assistance for Small Entities

Under section 213(a) of the Small Business Regulatory Enforcement Fairness Act of 1996, Public Law 104-121, we want to assist small entities in understanding this proposed rule so that they can better evaluate its effects on them and participate in the rulemaking. If the proposed rule would affect your small business, organization, or governmental jurisdiction and you have questions concerning its provisions or options for compliance, please call or email the person in the FOR FURTHER INFORMATION CONTACT section of this proposed rule. The Coast Guard will not retaliate against small entities that question or complain about this proposed rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This proposed rule would call for no new or revised collection of information under the Paperwork Reduction Act of 1995, 44 U.S.C. 3501-3520.

E. Federalism

A rule has implications for federalism under Executive Order 13132 (Federalism) if it has a substantial direct effect on States, on the relationship between the National Government and the States, or on the distribution of power and responsibilities among the various levels of government. We have analyzed this proposed rule under Executive Order 13132 and have determined that it is consistent with the fundamental federalism principles and preemption requirements described in Executive Order 13132. Our analysis follows.

It is well settled that States may not regulate in categories reserved for regulation by the Coast Guard. It is also well settled that Congress gave the Coast Guard the authority to establish vessel movement restrictions in 46 U.S.C. 70001 and 70003. The proposed fairways would be located offshore in waters outside of State and local jurisdiction. The use of the new fairway anchorages would be voluntary for vessel operators. They would be available to use by any vessel transiting the area. Establishing the voluntary fairway anchorages would not interfere with other state requirements that apply to these vessels. Therefore, this proposed rule is consistent with the fundamental federalism principles and preemption requirements described in Executive Order 13132.

While it is well settled that States may not regulate in categories in which Congress intended the Coast Guard to be the sole source of a vessel's obligations, the Coast Guard recognizes the key role that State and local governments may have in making regulatory determinations. Additionally, for rules with federalism implications and preemptive effect, Executive Order 13132 specifically directs agencies to consult with State and local governments during the rulemaking process. If you believe this proposed rule would have implications for federalism under Executive Order 13132, please call or email the person listed in the FOR FURTHER INFORMATION CONTACT section of this preamble.

F. Unfunded Mandates

The Unfunded Mandates Reform Act of 1995, 2 U.S.C. 1531-1538, requires Federal agencies to assess the effects of their discretionary regulatory actions. In particular, the Act addresses actions that may result in the expenditure by a State, local, or tribal government, in the aggregate, or by the private sector of $100 million (adjusted for inflation) or more in any one year. Although this proposed rule would not result in such an expenditure, we do discuss the potential effects of this proposed rule elsewhere in this preamble.

G. Taking of Private Property

This proposed rule would not cause a taking of private property or otherwise have taking implications under Executive Order 12630 (Governmental Actions and Interference with Constitutionally Protected Property Rights).

H. Civil Justice Reform

This proposed rule meets applicable standards in sections 3(a) and 3(b)(2) of Executive Order 12988, (Civil Justice Reform), to minimize litigation, eliminate ambiguity, and reduce burden.

I. Protection of Children

We have analyzed this proposed rule under Executive Order 13045 (Protection of Children from Environmental Health Risks and Safety Risks). This proposed rule is not an economically significant rule and would not create an environmental risk to health or risk to safety that might disproportionately affect children.

J. Indian Tribal Governments

This proposed rule does not have tribal implications under Executive Order 13175 (Consultation and Coordination with Indian Tribal Governments) because it would not have a substantial direct effect on one or more Indian tribes, on the relationship between the Federal Government and Indian tribes, or on the distribution of power and responsibilities between the Federal Government and Indian tribes.

K. Energy Effects

We have analyzed this proposed rule under Executive Order 13211 (Actions Concerning Regulations That Significantly Affect Energy Supply, Distribution, or Use). We have determined that it is not a “significant energy action” under that order because it is not a “significant regulatory action” under Executive Order 12866 and is not likely to have a significant adverse effect on the supply, distribution, or use of energy.

L. Technical Standards

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (for example, specifications of materials, performance, design, or operation; test methods; sampling procedures; and related management systems practices) that are developed or adopted by voluntary consensus standards bodies.

This proposed rule does not use technical standards. Therefore, we did not consider the use of voluntary consensus standards.

M. Environment

We have analyzed this proposed rule under Executive Order 12114, Environmental Effects Abroad of Major Federal Actions, as well as Department of Homeland Security's National Environmental Policy Act (NEPA) Procedures, Management Directive 023-01, Rev. 1, Associated Implementing Instructions, and Environmental Planning Policy, COMDTINST 5090.1 (series), and the Environmental Planning Implementing Procedures for COMDTINST 5090.1 Environmental Planning Policy (Feb. 2025). We have made a preliminary determination that this proposed rule would not significantly harm the environment.

The Coast Guard is conducting an environmental analysis pursuant to Executive Order 12114. NEPA does not apply to extraterritorial activities or decisions, which means agency activities or decisions with effects located entirely outside of the jurisdiction of the United States. 42 U.S.C. 4336e(10)(B)(vi).

For the reasons discussed in the preamble, the Coast Guard is proposing to amend 33 CFR part 166 as follows:

List of Subjects in 33 CFR Part 166

Anchorage grounds, Marine safety, Navigation (water), Waterways.

PART 166—SHIPPING SAFETY FAIRWAYS

1. The authority citation for part 166 is revised to read as follows:

Authority: 46 U.S.C. 70001, 70003, 70034; Department of Homeland Security Delegation No. 00170.1, Revision No. 01.4.

2. Amend § 166.200 by:

a. In the heading to paragraph (d)(13)(ii), removing the text “(North)” and adding, in its place, the text “(West)”; and

b. Adding new paragraphs (d)(13)(v) and (vi) to read as follows:

§ 166.200 Shipping safety fairways and anchorages areas, Gulf of America.

* * * * *

(d) * * *

(13) * * *

(v) Sabine Bank Approach (East) Anchorage Area. The area enclosed by rhumb lines joining points at:

Latitude North | Longitude West
29°09′55″ | 93°38′50″
29°09′55″ | 93°37′34″
29°08′46″ | 93°37′34″
29°04′45″ | 93°33′58″
29°03′53″ | 93°35′07″
29°08′11″ | 93°38′50″

(vi) Sabine Bank Approach (West) Anchorage Area. The area enclosed by rhumb lines joining points at:

Latitude North | Longitude West
29°13′29″ | 93°42′57″
29°13′29″ | 93°41′06″
29°07′31″ | 93°41′06″
29°03′36″ | 93°37′44″
29°02′09″ | 93°39′30″
29°06′11″ | 93°42′57″

* * * * *

Dated: February 11, 2026.
Robert C. Compher,
Captain, U.S. Coast Guard, Acting Assistant Commandant for Prevention Policy.

[FR Doc. 2026-03044 Filed 2-13-26; 8:45 am]

BILLING CODE 9110-04-P